ENVIRONMENTAL PROTECTION AGENCY

40 CFR Part 271

[EPA-R05-RCRA-2008-0711; FRL-8788-9]

Wisconsin: Final Authorization of State Hazardous Waste Management Program Revision

AGENCY: Environmental Protection Agency (EPA).

ACTION: Final rule.

SUMMARY: EPA is granting Wisconsin final authorization of the changes to its hazardous waste program under the Resource Conservation and Recovery Act (RCRA). The agency published a proposed rule on November 24, 2008 at 73 FR 70931 and provided for public comment. The public comment period ended on December 24, 2008. We received no comments. No further opportunity for comment will be provided. EPA has determined that these changes satisfy all requirements needed to qualify for final authorization, and is proposing to authorize the State's changes. This final rule authorizes the renumbering and revision of Wisconsin's previously authorized regulations.

DATES: The final authorization will be effective on April 15, 2009.

ADDRESSES: EPA has established a docket for this action under Docket ID No. EPA-R05-RCRA-2008-0711. All documents in the docket are listed in the http://www.regulations.gov index. Although listed in the index, some of the information is not publicly available, e.g., CBI or other information whose disclosure is restricted by statute. Certain other material, such as copyrighted material, will be publicly available only in hard copy. Publicly available docket materials are available either electronically at http://www.regulations.gov or in hard copy. You may view and copy Wisconsin's application from 9 a.m. to 4 p.m. at the following addresses: U.S. EPA, Region 5, LR-8J, 77 West Jackson Boulevard, Chicago, Illinois, contact: Jean Gromnicki (312) 886-6162; or Wisconsin Department of Natural Resources, 101 S. Webster Street, Madison, Wisconsin, contact: Patricia Chabot (608) 264-6015.

FOR FURTHER INFORMATION CONTACT: Jean Gromnicki, Wisconsin Regulatory Specialist, U.S. EPA, Region 5, LR-8J, 77 West Jackson Boulevard, Chicago, Illinois 60604, (312) 886-6162, e-mail gromnicki.jean@epa.gov.

SUPPLEMENTARY INFORMATION:

A. Why Are Revisions to State Programs Necessary?

States which have received final authorization from EPA under RCRA Section 3006(b), 42 U.S.C. 6926(b), must maintain a hazardous waste program that is equivalent to, consistent with, and no less stringent than the Federal program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260 through 266, 268, 270, 273 and 279.

B. What Decisions Have We Made in This Rule?

We conclude that Wisconsin's application to revise its authorized program meets all of the statutory and regulatory requirements established by RCRA. Therefore, we are granting Wisconsin final authorization to operate its hazardous waste program with the changes described in the authorization application. Wisconsin has responsibility for permitting Treatment, Storage, and Disposal Facilities (TSDFs) within its borders (except in Indian Country) and for carrying out the aspects of the RCRA program described in its revised program application, subject to the limitations of the Hazardous and Solid Waste Amendments of 1984 (HSWA). New Federal requirements and prohibitions imposed by Federal regulations that EPA promulgates under the authority of HSWA take effect in authorized States before they are authorized for the requirements. Thus, EPA will implement those requirements and prohibitions in Wisconsin, including issuing permits, until the State is granted authorization to do so.

C. What Is the Effect of This Authorization Decision?

The effect of this decision is that a facility in Wisconsin subject to RCRA will now have to comply with the authorized State requirements instead of the equivalent Federal requirements in order to comply with RCRA. Wisconsin has enforcement responsibilities under its State hazardous waste program for violations of such program, but EPA retains its authority under RCRA sections 3007, 3008, 3013, and 7003, which include, among others, authority to:

1. Do inspections, and require monitoring, tests, analyses or reports.

2. Enforce RCRA requirements and suspend or revoke permits.

3. Take enforcement actions regardless of whether the State has taken its own actions.

This action does not impose additional requirements on the regulated community because the regulations for which Wisconsin is being authorized by today's action are already effective, and are not changed by today's action.

D. Proposed Rule

On November 24, 2008 (73 FR 70931), EPA published a proposed rule. In that rule we proposed granting authorization of changes to Wisconsin's hazardous waste program and opened our decision to public comment. The agency received no comments on this proposal.

E. What Has Wisconsin Previously Been Authorized for?

Wisconsin initially received final authorization on January 30, 1986, effective January 31, 1986 (51 FR 3783) to implement the RCRA hazardous waste management program. We granted authorization for changes to their program on May 23, 1989, effective June 6, 1989 (54 FR 15029), on November 22, 1989, effective January 22, 1990 (54 FR 48243), on April 24, 1992, effective April 24, 1992 (57 FR 15029), on June 2, 1993, effective August 2, 1993 (58 FR 31344), on August 4, 1994, effective October 4, 1994 (59 FR 39971), on August 5, 1999, effective October 4, 1999 (64 FR 42630), and on June 26, 2002, effective June 26, 2002 (67 FR 43002).

F. What Changes Are We Authorizing With This Action?

On April 29, 2008, Wisconsin submitted a final complete program revision application, seeking authorization of their changes in accordance with 40 CFR 271.21. We have determined that Wisconsin's hazardous waste program revision satisfies all of the requirements necessary to qualify for final authorization. Therefore, we are granting Wisconsin final authorization for the following program changes:

Federal provision | Former NR provision | Recodified NR provision
40 CFR 260.1 | NR 600.01 | NR 660.01.
40 CFR 260.2 | NR 600.06 | NR 660.02.
40 CFR 260.3 | §§ 227.27(1) & 990.001(1) & (2), Stats | §§ 227.27(1) & 990.001(1) & (2), Stats.
40 CFR 260.10 | NR 600.03 | NR 660.10.
40 CFR 260.11 | NR 600.10 | NR 660.11.
40 CFR 260.20 | NR 605.10(6) | NR 660.20.
40 CFR 260.21 | None | NR 660.21.
40 CFR 260.22 | NR 605.10(1), (2) & (4) | NR 660.22.
40 CFR 260.23 | NR 605.10(7) | NR 660.23.
40 CFR 260.30 | None | NR 660.30.
40 CFR 260.31 | None | NR 660.31.
40 CFR 260.32 | None | NR 660.32.
40 CFR 260.33 | None | NR 660.33.
40 CFR 260.40 | NR 625.10 | NR 660.40.
40 CFR 260.41 | None | NR 660.41.
40 CFR 261.1 | NR 600.03 & 605.01-605.03 | NR 661.01.
40 CFR 261.2 | NR 605.05(1)(m), (2)(a) & (f)-(i), (3) & (4) | NR 661.02.
40 CFR 261.3 | NR 605.04 | NR 661.03.
40 CFR 261.4 | NR 600.03(107) & 605.05 & § 289.01(33), Stats | NR 661.04.
40 CFR 261.5 | NR 610.06, 610.07(1)-(4) & 610.09 | NR 662.220.
40 CFR 261.6 | NR 605.05(1)(q) & (2)(a)-(d), 625.01-625.09 & 625.11 | NR 661.06.
40 CFR 261.7 | NR 605.06 & 610.04(4) | NR 661.07.
40 CFR 261.8 | NR 605.13 | NR 661.08.
40 CFR 261.9 | NR 605.05(12) | NR 661.09.
40 CFR 261.10 | NR 605.07(1) | NR 661.10.
40 CFR 261.11 | NR 605.07(2) | NR 661.11.
40 CFR 261.20 | NR 605.08(1) | NR 661.20.
40 CFR 261.21 | NR 605.08(2) | NR 661.21.
40 CFR 261.22 | NR 605.08(3) | NR 661.22.
40 CFR 261.23 | NR 605.08(4) | NR 661.23.
40 CFR 261.24 | NR 605.08(5) | NR 661.24.
40 CFR 261.30 | NR 605.09(1) | NR 661.30.
40 CFR 261.31 | NR 605.09(2)(a) & 605.14 | NR 661.31.
40 CFR 261.32 | NR 605.09(2)(b) | NR 661.32.
40 CFR 261.33 | NR 605.09(3) | NR 661.33.
40 CFR 261.35 | NR 605.05(6) | NR 661.35.
40 CFR 261.38 | None | NR 661.38.
40 CFR 261 Appendix I | NR 605 Appendix I | NR 661 Appendix I.
40 CFR 261 Appendix II | None | NR 661 Appendix II.
40 CFR 261 Appendix III | NR 605 Appendix II | NR 661 Appendix III.
40 CFR 261 Appendix VII | NR 605 Appendix III | NR 661 Appendix VII.
40 CFR 261 Appendix VIII | NR 605 Appendix IV | NR 661 Appendix VIII.
40 CFR 262.10 | NR 610.01, 610.02, 610.04(2) & (3), 615.01, 615.02, 615.04(2) & 615.05(1)(c) | NR 662.010 & 662.190(2).
40 CFR 262.11 | NR 610.05(1)-(5) & 615.06(1)-(4) & (6) | NR 662.011 & 662.190(2).
40 CFR 262.12 | NR 610.08(1)(b) & (c) & 615.07 | NR 662.012 & 662.190(2).
40 CFR 262.20 | NR 610.08(1)(d) & (e), 615.08(1), (3)-(5), (8) & (9) & 615.09(1) | NR 662.020 & 662.191.
40 CFR 262.21 | NR 610.08(1)(d) & 615.08(2) | NR 662.021 & 662.190(2)(a).
40 CFR 262.22 | NR 610.08(1)(d) & 615.08(6) | NR 662.022 & 662.190(2)(a).
40 CFR 262.23 | NR 610.08(1)(d) & 615.08(6), (11), (12) & (15) | NR 662.023 & 662.190(2)(a).
40 CFR 262.30 | NR 610.08(1)(j), 615.05(4)(a)2.a. & 615.10(1) | NR 662.030 & 662.190(2).
40 CFR 262.31 | NR 610.08(1)(k)(intro.), 615.05(4)(a)2.a. & 615.10(2)(intro.) | NR 662.031 & 662.190(2).
40 CFR 262.32 | NR 610.08(1)(k)(intro.) & 2., 615.05(4)(a)2.a. & 615.10(2)(intro.) & (b) | NR 662.032 & 662.190(2).
40 CFR 262.33 | NR 610.08(1)(L), 615.05(4)(a)2.a. & 615.10(3) | NR 662.033 & 662.190(2).
40 CFR 262.34 | NR 615.05(4)(a)2.-6. & 10., (b) & (c) & 610.08(intro.), (1)(k)1., (n)-(q), (u), (w) & (x), (2) & (5)(a) & (c) | NR 662.034 & 662.192.
40 CFR 262.40 | NR 615.06(5), 615.08(7) & 615.11(1)(c) & (2)(c) | NR 662.040.
40 CFR 262.41 | NR 615.11(1) | NR 662.041.
40 CFR 262.42 | NR 615.11(2) | NR 662.042.
40 CFR 262.43 | NR 615.11(3) | NR 662.043.
40 CFR 262.44 | NR 610.05(6), 610.08(1)(d), (h)1. & (i) & 615.08(7) | NR 662.193.
40 CFR 262.50 | NR 610.08(1)(m) & 615.12(intro.) | NR 662.050 & 662.190(2).
40 CFR 262.51 | NR 600.03(41), (70), (180), (184) & (234) | NR 662.051 & 662.190(2).
40 CFR 262.52 | NR 610.08(1)(m) & 615.12(1i)-(1m) | NR 662.052 & 662.190(2).
40 CFR 262.53 | NR 610.08(1)(m) & 615.12(1) | NR 662.053 & 662.190(2).
40 CFR 262.54 | NR 610.08(1)(m) & 615.12(1c)-(1g), (1k), (1p) & (1r) | NR 662.054 & 662.190(2).
40 CFR 262.55 | NR 610.08(1)(m) & 615.12(2) | NR 662.055 & 662.190(2).
40 CFR 262.56 | NR 610.08(1)(m) & 615.12(1t) | NR 662.056 & 662.190(2).
40 CFR 262.57 | NR 610.08(1)(m) & 615.12(1u)-(1z) | NR 662.057 & 662.190(2).
40 CFR 262.58 | NR 615.14 | NR 662.058 & 662.190(2).
40 CFR 262.60 | NR 615.13 | NR 662.060 & 662.190(2).
40 CFR 262.70 | NR 610.04(2) & (3) & 615.04(2) | NR 662.070 & 662.190(2).
40 CFR 262.80 | None | NR 662.080 & 662.190(2).
40 CFR 262.81 | None | NR 662.081 & 662.190(2).
40 CFR 262.82 | None | NR 662.082 & 662.190(2).
40 CFR 262.83 | None | NR 662.083 & 662.190(2).
40 CFR 262.84 | None | NR 662.084 & 662.190(2).
40 CFR 262.85 | None | NR 662.085 & 662.190(2).
40 CFR 262.86 | None | NR 662.086 & 662.190(2).
40 CFR 262.87 | None | NR 662.087 & 662.190(2).
40 CFR 262.89 | None | NR 662.089 & 662.190(2).
40 CFR 262 Appendix | NR 610.08(1)(d) & 615.08(8)(intro.) & (9)(intro.) | NR 662.020(1) & 662.190(2)(a).
40 CFR 263.10 | NR 620.01, 620.04(1) & 620.05(2) & (5) | NR 663.10.
40 CFR 263.11 | NR 620.05(4) & 620.06 | NR 663.11.
40 CFR 263.12 | NR 620.14(intro.), (3), (5)(a) & (14) | NR 663.12.
40 CFR 263.20 | NR 620.07 | NR 663.20.
40 CFR 263.21 | NR 620.08 | NR 663.21.
40 CFR 263.22 | NR 620.09 | NR 663.22.
40 CFR 263.30 | NR 620.10 | NR 663.30.
40 CFR 263.31 | NR 620.10 | NR 663.31.
40 CFR 264.1 | NR 630.01, 630.02, 630.04(1), (2), (4)-(7), (9), (11)-(14), (16) & (17), 635.04(1), 636.04(1), 640.04(1)-(5) & (9)-(11), 645.04(1)-(5), 656.04(2), 660.04(2) & 665.05(2) | NR 664.0001.
40 CFR 264.3 | NR 630.04(8), 640.04(7) & 660.04(4) | NR 664.0003.
40 CFR 264.4 | § 291.85, Stats | NR 664.0004.
40 CFR 264.10 | NR 630.02 | NR 664.0010.
40 CFR 264.11 | NR 630.11 | NR 664.0011.
40 CFR 264.12 | NR 630.10 | NR 664.0012.
40 CFR 264.13 | NR 630.12 & 630.13(1) | NR 664.0013.
40 CFR 264.14 | NR 630.14 | NR 664.0014.
40 CFR 264.15 | NR 630.15 | NR 664.0015.
40 CFR 264.16 | NR 630.16 | NR 664.0016.
40 CFR 264.17 | NR 630.17(1) & (2) | NR 664.0017.
40 CFR 264.18 | NR 600.04(5) & 630.18(2) & (3) | NR 664.0018.
40 CFR 264.19 | NR 655.07(7) & 660.13(6)-(9) & 660.16 | NR 664.0019.
40 CFR 264.30 | NR 630.02 | NR 664.0030.
40 CFR 264.31 | NR 630.21(1) | NR 664.0031.
40 CFR 264.32 | NR 630.21(2) | NR 664.0032.
40 CFR 264.33 | NR 630.21(4) | NR 664.0033.
40 CFR 264.34 | NR 630.21(3) | NR 664.0034.
40 CFR 264.35 | NR 630.21(5) | NR 664.0035.
40 CFR 264.37 | NR 630.21(6) | NR 664.0037.
40 CFR 264.50 | NR 630.02 | NR 664.0050.
40 CFR 264.51 | NR 630.22(1)(a) | NR 664.0051.
40 CFR 264.52 | NR 630.22(1)(e) & (g) | NR 664.0052.
40 CFR 264.53 | NR 630.22(1)(b) | NR 664.0053.
40 CFR 264.54 | NR 630.22(1)(c) | NR 664.0054.
40 CFR 264.55 | NR 630.22(1)(d) | NR 664.0055.
40 CFR 264.56 | NR 630.22(2) | NR 664.0056.
40 CFR 264.70 | NR 630.02 | NR 664.0070.
40 CFR 264.71 | NR 630.30(4)-(5m) & (7) | NR 664.0071.
40 CFR 264.72 | NR 600.03(147) & (203) & 630.30(6) | NR 664.0072.
40 CFR 264.73 | NR 630.31(1) | NR 664.0073.
40 CFR 264.74 | NR 630.31(2)-(4) | NR 664.0074.
40 CFR 264.75 | NR 630.40(1) | NR 664.0075.
40 CFR 264.76 | NR 630.40(2) | NR 664.0076.
40 CFR 264.77 | NR 630.40(3) | NR 664.0077.
40 CFR 264.90 | NR 635.02, 635.04(1)(a) & 635.05(1)(intro.), (a), (b) & (d) & (2) & 680.04 | NR 664.0090.
40 CFR 264.91 | NR 635.06 | NR 664.0091.
40 CFR 264.92 | NR 635.07 | NR 664.0092.
40 CFR 264.93 | NR 635.08 | NR 664.0093.
40 CFR 264.94 | NR 635.09 | NR 664.0094.
40 CFR 264.95 | NR 635.10 | NR 664.0095.
40 CFR 264.96 | NR 635.11(1) & (2) | NR 664.0096.
40 CFR 264.97 | NR 635.12 | NR 664.0097.
40 CFR 264.98 | NR 635.13 | NR 664.0098.
40 CFR 264.99 | NR 635.14 | NR 664.0099.
40 CFR 264.100 | NR 635.15 | NR 664.0100.
40 CFR 264.101 | NR 635.17 | NR 664.0101.
40 CFR 264.110 | NR 680.04, 685.02 & 685.06(1) | NR 664.0110.
40 CFR 264.111 | NR 685.05(1)(a)-(c) | NR 664.0111.
40 CFR 264.112 | NR 685.05(2)-(5) | NR 664.0112.
40 CFR 264.113 | NR 685.05(6) & (7) | NR 664.0113.
40 CFR 264.114 | NR 685.05(8) | NR 664.0114.
40 CFR 264.115 | NR 685.05(10)(a) & (b) | NR 664.0115.
40 CFR 264.116 | NR 685.05(10)(c) | NR 664.0116.
40 CFR 264.117 | NR 685.06(2)-(4) | NR 664.0117.
40 CFR 264.118 | NR 685.06(5) & (6) | NR 664.0118.
40 CFR 264.119 | NR 660.17, 660.24(10) & 685.06(8) | NR 664.0119.
40 CFR 264.120 | NR 685.06(9) | NR 664.0120.
40 CFR 264.140 | NR 680.04 & 685.07(1)(a) & (b) | NR 664.0140.
40 CFR 264.141 | NR 600.03(3), (15), (23m), (33), (35), (52), (53), (116), (137), (139), (144), (154), (155), (162), (168), (218), (219) & (224) & 685.03 | NR 664.0141.
40 CFR 264.142 | NR 685.07(3)(a), (b)1. & 4. & (c) | NR 664.0142.
40 CFR 264.143 | NR 685.07(5)(a)-(i) & (9)(a) | NR 664.0143.
40 CFR 264.144 | NR 685.07(4)(a), (b)1. & 4. & (c) | NR 664.0144.
40 CFR 264.145 | NR 685.07(5)(a)-(i) & (9)(b) | NR 664.0145.
40 CFR 264.146 | NR 680.04 | NR 664.0146.
40 CFR 264.147 | NR 680.04 & 685.08(1)-(3), (4)(c), (6), (8), (9)(a) & (b), (10)(a)-(c), (11)(a)-(d) & (12)(a)-(d) | NR 664.0147.
40 CFR 264.148 | NR 685.07(10) & 685.08(13) | NR 664.0148.
40 CFR 264.151 | NR 685.08(7)(a) & (b), (8)(d)1., (9)(c), (10)(f), (11)(e) & (12)(e) & DNR Forms 4430-022—4430-026 | NR 664.0151.
40 CFR 264.170 | NR 640.02 | NR 664.0170.
40 CFR 264.171 | NR 640.09 | NR 664.0171.
40 CFR 264.172 | NR 640.10 | NR 664.0172.
40 CFR 264.173 | NR 640.11(2) & (3) | NR 664.0173.
40 CFR 264.174 | NR 640.12(1) | NR 664.0174.
40 CFR 264.175 | NR 640.13(1) | NR 664.0175.
40 CFR 264.176 | NR 640.14 | NR 664.0176.
40 CFR 264.177 | NR 640.15 | NR 664.0177.
40 CFR 264.178 | NR 640.16(1) | NR 664.0178.
40 CFR 264.179 | NR 640.13(4) | NR 664.0179.
40 CFR 264.190 | NR 645.02 & 645.09(1) & (2) | NR 664.0190.
40 CFR 264.191 | NR 645.07(1)-(4) | NR 664.0191.
40 CFR 264.192 | NR 645.08 | NR 664.0192.
40 CFR 264.193 | NR 645.09(3)-(11) | NR 664.0193.
40 CFR 264.194 | NR 645.10(1)-(3) | NR 664.0194.
40 CFR 264.195 | NR 645.11 | NR 664.0195.
40 CFR 264.196 | NR 645.12 | NR 664.0196.
40 CFR 264.197 | NR 645.17(1)(a) | NR 664.0197.
40 CFR 264.198 | NR 645.13 | NR 664.0198.
40 CFR 264.199 | NR 645.14 | NR 664.0199.
40 CFR 264.200 | NR 645.10(6) | NR 664.0200.
40 CFR 264.220 | NR 660.02 | NR 664.0220.
40 CFR 264.221 | NR 660.18(11)(a)-(d), (38) & (39), 660.24(11)(b)1.-5. & 680.04 | NR 664.0221.
40 CFR 264.222 | NR 660.18(11)(f) | NR 664.0222.
40 CFR 264.223 | NR 660.18(11)(g)-(i) | NR 664.0223.
40 CFR 264.226 | NR 660.18(13), (31)(b) & (c) & (32) | NR 664.0226.
40 CFR 264.227 | NR 660.18(33)-(37) | NR 664.0227.
40 CFR 264.228 | NR 660.20(1)(a)1. & (d), 660.21(1)(a) & (4), 660.22 & 660.24(14) & (15) | NR 664.0228.
40 CFR 264.229 | NR 660.18(3) & 660.24(11)(a) | NR 664.0229.
40 CFR 264.230 | NR 660.18(4) | NR 664.0230.
40 CFR 264.231 | NR 660.25 | NR 664.0231.
40 CFR 264.232 | NR 660.18(40) | NR 664.0232.
40 CFR 264.250 | NR 655.02 & 655.05(2)(intro.) & (a)-(e) | NR 664.0250.
40 CFR 264.251 | NR 655.07(2), (3) & (5) & 680.04 | NR 664.0251.
40 CFR 264.252 | NR 655.07(2) & 660.18(11)(f) | NR 664.0252.
40 CFR 254.253 | NR 655.07(2) & 660.18(11)(g)-(i) | NR 664.0253.
40 CFR 264.254 | NR 655.08 | NR 664.0254.
40 CFR 264.256 | NR 655.09 | NR 664.0256.
40 CFR 264.257 | NR 655.10(1) | NR 664.0257.
40 CFR 264.258 | NR 655.11(2)(a), (b) & (d) | NR 664.0258.
40 CFR 264.259 | NR 655.12 | NR 664.0259.
40 CFR 264.270 | NR 600.04(2) | NR 664.0270.
40 CFR 264.271 | None | None.
40 CFR 264.272 | None | None.
40 CFR 264.273 | None | None.
40 CFR 264.276 | None | None.
40 CFR 264.278 | None | None.
40 CFR 264.279 | None | None.
40 CFR 264.280 | None | None.
40 CFR 264.281 | None | None.
40 CFR 264.282 | None | None.
40 CFR 264.283 | None | None.
40 CFR 264.300 | NR 660.02 | NR 664.0300.
40 CFR 264.301 | NR 660.18(11)(a)-(d), (12), (16) & (29) & 680.04 | NR 664.0301.
40 CFR 264.302 | NR 660.18(11)(f) | NR 664.0302.
40 CFR 264.303 | NR 660.18(13) & (31)(a) & (c) | NR 664.0303.
40 CFR 264.304 | NR 660.18(11)(g)-(i) | NR 664.0304.
40 CFR 264.309 | NR 660.18(14) | NR 664.0309.
40 CFR 264.310 | NR 660.20(1)(a)1., 660.21(1)(a) & 660.22(2) | NR 664.0310.
40 CFR 264.312 | NR 660.18(3) | NR 664.0312.
40 CFR 264.313 | NR 660.18(4) | NR 664.0313.
40 CFR 264.314 | NR 660.18(6)-(8) & (9)(b) & (d) | NR 664.0314.
40 CFR 264.315 | NR 660.18(9)(a) | NR 664.0315.
40 CFR 264.316 | NR 660.18(9)(c) | NR 664.0316.
40 CFR 264.317 | NR 660.25 | NR 664.0317.
40 CFR 264.340 | NR 665.02 | NR 664.0340.
40 CFR 264.341 | NR 665.09(14) | NR 664.0341.
40 CFR 264.342 | NR 665.08 | NR 664.0342.
40 CFR 264.343 | NR 665.09(13) | NR 664.0343.
40 CFR 264.344 | NR 665.05(3) | NR 664.0344.
40 CFR 264.345 | NR 665.09(12), (14), (15) & (17)-(19) | NR 664.0345.
40 CFR 264.347 | NR 665.09(11)(a)-(f) | NR 664.0347.
40 CFR 264.351 | NR 665.10(1) | NR 664.0351.
40 CFR 264.550 | None | NR 664.0550.
40 CFR 264.551 | NR 600.03(49) & 636.40 | NR 664.0551.
40 CFR 264.552 | None | NR 664.0552.
40 CFR 264.553 | NR 636.41 | NR 664.0553.
40 CFR 264.554 | None | NR 664.0554.
40 CFR 264.555 | None | NR 664.0555.
40 CFR 264.570 | NR 656.02, 656.03, 656.04(3) & 656.07(1) | NR 664.0570.
40 CFR 264.571 | NR 656.07(2) | NR 664.0571.
40 CFR 264.572 | NR 656.07(3) | NR 664.0572.
40 CFR 264.573 | NR 656.07(4) | NR 664.0573.
40 CFR 264.574 | NR 656.07(5) | NR 664.0574.
40 CFR 264.575 | NR 656.08(1)(a), (b) & (c)1.-3 | NR 664.0575.
40 CFR 264.600 | NR 670.02 | NR 664.0600.
40 CFR 264.601 | NR 670.08 | NR 664.0601.
40 CFR 264.602 | NR 670.09 | NR 664.0602.
40 CFR 264.603 | NR 670.10(2) | NR 664.0603.
40 CFR 264.1030 | NR 631.02 | NR 664.1030.
40 CFR 264.1031 | NR 600.03(9), (30), (47), (63), (66), (84), (86), (90), (112), (113), (179), (209), (214), (222) & (230) & 631.03(1)-(15) & (18)-(25) | NR 664.1031.
40 CFR 264.1032 | NR 631.06(1) | NR 664.1032.
40 CFR 264.1033 | NR 631.06(2) | NR 664.1033.
40 CFR 264.1034 | NR 631.03(26) & 631.07 | NR 664.1034.
40 CFR 264.1035 | NR 631.08 | NR 664.1035.
40 CFR 264.1036 | NR 631.09 | NR 664.1036.
40 CFR 264.1050 | NR 632.02 | NR 664.1050.
40 CFR 264.1051 | NR 632.03 | NR 664.1051.
40 CFR 264.1052 | NR 632.06(1) | NR 664.1052.
40 CFR 264.1053 | NR 632.06(2) | NR 664.1053.
40 CFR 264.1054 | NR 632.06(3) | NR 664.1054.
40 CFR 264.1055 | NR 632.06(4) | NR 664.1055.
40 CFR 264.1056 | NR 632.06(5) | NR 664.1056.
40 CFR 264.1057 | NR 632.06(6) | NR 664.1057.
40 CFR 264.1058 | NR 632.06(7) | NR 664.1058.
40 CFR 264.1059 | NR 632.06(8) | NR 664.1059.
40 CFR 264.1060 | NR 632.06(9) | NR 664.1060.
40 CFR 264.1061 | NR 632.07(1) | NR 664.1061.
40 CFR 264.1062 | NR 632.07(2) | NR 664.1062.
40 CFR 264.1063 | NR 631.03(26) & 632.08 | NR 664.1063.
40 CFR 264.1064 | NR 632.09 | NR 664.1064.
40 CFR 264.1065 | NR 632.10 | NR 664.1065.
40 CFR 264.1080 | NR 633.02 | NR 664.1080.
40 CFR 264.1081 | NR 631.03(14) & 633.03 | NR 664.1081.
40 CFR 264.1082 | NR 633.05 | NR 664.1082.
40 CFR 264.1083 | NR 633.06 | NR 664.1083.
40 CFR 264.1084 | NR 633.07 | NR 664.1084.
40 CFR 264.1085 | NR 633.08 | NR 664.1085.
40 CFR 264.1086 | NR 633.09 | NR 664.1086.
40 CFR 264.1087 | NR 633.10 | NR 664.1087.
40 CFR 264.1088 | NR 633.11 | NR 664.1088.
40 CFR 264.1089 | NR 633.12 | NR 664.1089.
40 CFR 264.1090 | NR 633.13 | NR 664.1090.
40 CFR 264.1100 | NR 655.02 & 655.05(2)(intro.), (a), (g)(intro.) & 1, (k) & (L) | NR 664.1100.
40 CFR 264.1101 | NR 655.05(2)(j) & (L) & 655.07(5) & (6) | NR 664.1101.
40 CFR 264.1102 | NR 655.11(2)(a)-(c) | NR 664.1102.
40 CFR 264.1200 | None | NR 664.1200.
40 CFR 264.1201 | None | NR 664.1201.
40 CFR 264.1202 | None | NR 664.1202.
40 CFR 264 Appendix I | None | NR 664 Appendix I.
40 CFR 264 Appendix IV | None | NR 664 Appendix IV.
40 CFR 264 Appendix V | None | NR 664 Appendix V.
40 CFR 264 Appendix VI | None | None. See NR 664.0018, 1st Note.
40 CFR 264 Appendix IX | NR 635 Appendix I | NR 664 Appendix IX.
40 CFR 265.1 | NR 635.04(1), 645.04(1)-(5), 656.04(2) & 680.22 | NR 665.0001.
40 CFR 265.4 | § 291.85, Stats | NR 665.0004.
40 CFR 265.10 | None | NR 665.0010.
40 CFR 265.11 | NR 630.11 & 680.22(3) | NR 665.0011.
40 CFR 265.12 | NR 630.10(1) & (2) & 680.22(4) | NR 665.0012.
40 CFR 265.13 | NR 630.12, 630.13(1) & 680.22(5) & (6) | NR 665.0013.
40 CFR 265.14 | NR 630.14 & 680.22(12) | NR 665.0014.
40 CFR 265.15 | NR 630.15 & 680.22(16) | NR 665.0015.
40 CFR 265.16 | NR 630.16 & 680.22(14) | NR 665.0016.
40 CFR 265.17 | NR 630.17(1) & (2) & 680.22(10) | NR 665.0017.
40 CFR 265.18 | NR 600.04(5), 630.18(2) & (3) & 680.22(2) & (11) | NR 665.0018.
40 CFR 265.19 | NR 655.07(7), 660.13(6)-(9), 660.16 & 680.22(24), (25) & (26) | NR 665.0019.
40 CFR 265.30 | None | NR 665.0030.
40 CFR 265.31 | NR 630.21(1) & 680.22(13) | NR 665.0031.
40 CFR 265.32 | NR 630.21(2) & 680.22(13) | NR 665.0032.
40 CFR 265.33 | NR 630.21(4) & 680.22(13) | NR 665.0033.
40 CFR 265.34 | NR 630.21(3) & 680.22(13) | NR 665.0034.
40 CFR 265.35 | NR 630.21(5) & 680.22(13) | NR 665.0035.
40 CFR 265.37 | NR 630.21(6) & 680.22(13) | NR 665.0037.
40 CFR 265.50 | None | NR 665.0050.
40 CFR 265.51 | NR 630.22(1)(a) & 680.22(13) | NR 665.0051.
40 CFR 265.52 | NR 630.22(1)(e) & (g) & 680.22(13) | NR 665.0052.
40 CFR 265.53 | NR 630.22(1)(b) & 680.22(13) | NR 665.0053.
40 CFR 265.54 | NR 630.22(1)(c) & 680.22(13) | NR 665.0054.
40 CFR 265.55 | NR 630.22(1)(d) & 680.22(13) | NR 665.0055.
40 CFR 265.56 | NR 630.22(2) & 680.22(13) | NR 665.0056.
40 CFR 265.70 | None | NR 665.0070.
40 CFR 265.71 | NR 630.30(4)-(5m) & (7) & 680.22(15) | NR 665.0071.
40 CFR 265.72 | NR 630.030(6) & 680.22(15) | NR 665.0072.
40 CFR 265.73 | NR 630.31(1)(a)-(i) & (k)-(o) & 680.22(15) | NR 665.0073.
40 CFR 265.74 | NR 630.31(2)-(4) & 680.22(15) | NR 665.0074.
40 CFR 265.75 | NR 630.40(1) & 680.22(15) | NR 665.0075.
40 CFR 265.76 | NR 630.40(2) & 680.22(15) | NR 665.0076.
40 CFR 265.77 | NR 630.40(3) & 680.22(15) | NR 665.0077.
40 CFR 265.90 | NR 635.02, 635.04(1)(a) & 635.05(1)(intro.), (a), (b) & (d) & (2) & 680.22(28) | NR 665.0090.
40 CFR 265.91 | NR 635.12(1), (3) & (8)(e)-(g) & 680.22(28) | NR 665.0091.
40 CFR 265.92 | NR 635.12(9) & (12)(intro.) & (a)-(c), 635.16(1)-(4) & 680.22(28) | NR 665.0092.
40 CFR 265.93 | NR 635.16(5) & (7)-(16) & 680.22(28) | NR 665.0093.
40 CFR 265.94 | NR 635.16(6) & (17) & 680.22(28) | NR 665.0094.
40 CFR 265.110 | NR 680.22(18) & 685.06(1) | NR 665.0110.
40 CFR 265.111 | NR 680.22(17) & 685.05(1)(a)-(c) | NR 665.0111.
40 CFR 265.112 | NR 680.22(17) & 685.05(2)(intro.), (a)-(f) & (k) & (3)-(5) | NR 665.0112.
40 CFR 265.113 | NR 680.22(17) & 685.05(6) & (7) | NR 665.0113.
40 CFR 265.114 | NR 680.22(17) & 685.05(8) | NR 665.0114.
40 CFR 265.115 | NR 680.22(17) & 685.05(10)(a) & (b) | NR 665.0115.
40 CFR 265.116 | NR 680.22(17) & 685.05(10)(c) | NR 665.0116.
40 CFR 265.117 | NR 680.22(18) & 685.06(2)-(4) | NR 665.0117.
40 CFR 265.118 | NR 680.22(18) & 685.06(5)-(7) | NR 665.0118.
40 CFR 265.119 | NR 660.17, 680.22(18) & (27) & 685.06(8) | NR 665.0119.
40 CFR 265.120 | NR 680.22(18) & 685.06(9) | NR 665.0120.
40 CFR 265.121 | None | NR 665.0121.
40 CFR 265.140 | NR 680.22(19) & 685.07(1)(a) & (b) | NR 665.0140.
40 CFR 265.141 | None | NR 665.0141.
40 CFR 265.142 | NR 680.22(19) & 685.07(3)(a), (b)1. & 4. & (c) | NR 665.0142.
40 CFR 265.143 | NR 680.22(19) & 685.07(5)(a)-(d) & (f)-(i) & (9)(a) | NR 665.0143.
40 CFR 265.144 | NR 680.22(19) & 685.07(4)(a), (b)1. & 4. & (c) | NR 665.0144.
40 CFR 265.145 | NR 680.22(19) & 685.07(5)(b)-(i) & (9)(b) | NR 665.0145.
40 CFR 265.146 | None | NR 665.0146.
40 CFR 265.147 | NR 680.22(20) & 685.08(1)-(3), (4)(c), (6), (8), (9)(a) & (b), (10)(a)-(c), (11)(a)-(d) & (12)(a)-(d) | NR 665.0147.
40 CFR 265.148 | NR 680.22(19) & (20) & 685.07(10) & 685.08(13) | NR 665.0148.
40 CFR 265.170 | None | NR 665.0170.
40 CFR 265.171 | NR 640.09 & 680.22(23) | NR 665.0171.
40 CFR 265.172 | NR 640.10 & 680.22(23) | NR 665.0172.
40 CFR 265.173 | NR 640.11(2) & (3) & 680.22(23) | NR 665.0173.
40 CFR 265.174 | NR 640.12(1) & 680.22(21) | NR 665.0174.
40 CFR 265.176 | NR 640.14 & 680.22(23) | NR 665.0176.
40 CFR 265.177 | NR 640.15 & 680.22(21) & (23) | NR 665.0177.
40 CFR 265.178 | None | NR 665.0178.
40 CFR 265.190 | NR 645.02 & 645.09(1) & (2) & 680.22(22) | NR 665.0190.
40 CFR 265.191 | NR 645.07(1)-(4) & 680.22(22) | NR 665.0191.
40 CFR 265.192 | NR 645.08 & 680.22(22) | NR 665.0192.
40 CFR 265.193 | NR 645.09(3)-(10) & (11)(a), (b), (d) & (e), 680.22(22) & 680.24(6) | NR 665.0193.
40 CFR 265.194 | NR 645.10(1)-(3) & 680.22(30) | NR 665.0194.
40 CFR 265.195 | NR 645.11 & 680.22(22) | NR 665.0195.
40 CFR 265.196 | NR 645.12 & 680.22(22) | NR 665.0196.
40 CFR 265.197 | NR 645.17(1)(a) & 680.22(17) | NR 665.0197.
40 CFR 265.198 | NR 645.13 & 680.22(22) | NR 665.0198.
40 CFR 265.199 | NR 645.14 & 680.22(22) | NR 665.0199.
40 CFR 265.200 | NR 645.15 & 680.22(22) | NR 665.0200.
40 CFR 265.201 | NR 610.08(1)(p) | NR 662.194.
40 CFR 265.202 | NR 645.10(6) & 680.22(30) | NR 665.0202.
40 CFR 265.220 | None | NR 665.0220.
40 CFR 265.221 | NR 660.18(2)(b), (11)(a)-(d), (16) & (38) & 680.22(25) & (31) | NR 665.0221.
40 CFR 265.222 | NR 660.18(11)(f) & 680.22(25) & (31) | NR 665.0222.
40 CFR 265.223 | NR 660.18(22) & 680.22(25) & (31) | NR 665.0223.
40 CFR 265.223 | NR 660.18(11)(g)-(i) & 680.22(25) & (31) | NR 665.0224.
40 CFR 265.225 | NR 660.18(10) & 680.22(25) & (31) | NR 665.0225.
40 CFR 265.226 | NR 660.18(31)(c) & 680.22(25) & (31) | NR 665.0226.
40 CFR 265.228 | NR 660.20(1)(a)1. & (d), 660.21(1)(a) & (4), 660.22 & 660.24(14) & (15) & 680.22(17), (18), (26), (27), & (31) | NR 665.0228.
40 CFR 265.229 | NR 660.18(3), 660.24(11)(a) & 680.22(25) & (31) | NR 665.0229.
40 CFR 265.230 | NR 660.18(4) & 680.22(25) & (31) | NR 665.0230.
40 CFR 265.231 | NR 660.18(40) & 680.22(25) & (31) | NR 665.0231.
40 CFR 265.250 | NR 655.02 & 680.22(24) | NR 665.0250.
40 CFR 265.251 | NR 655.07(5) & 680.22(24) | NR 665.0251.
40 CFR 265.252 | NR 655.10(2) & 680.22(24) | NR 665.0252.
40 CFR 265.253 | NR 655.07(4) & 680.22(24) | NR 665.0253.
40 CFR 265.254 | NR 655.07(2), 660.18(2)(b) & 680.22(24) | NR 665.0254.
40 CFR 265.255 | NR 655.07(2), 660.18(11)(f) & 680.22(24), (25) & (31) | NR 665.0255.
40 CFR 265.256 | NR 655.09 & 680.22(24) | NR 665.0256.
40 CFR 265.257 | NR 655.10(1) & 680.22(24) | NR 665.0257.
40 CFR 265.258 | NR 655.11(2)(a) & (b) & 680.22(24) | NR 665.0258.
40 CFR 265.259 | NR 655.07(2) & 660.18(11)(g)-(i) & 680.22(24), (25) & (31) | NR 665.0259.
40 CFR 265.260 | NR 655.08(3) & 680.22(24) | NR 665.0260.
40 CFR 265.270 | NR 600.04(3) & 680.22(2) | NR 665.0270.
40 CFR 265.272 | None | None.
40 CFR 265.273 | None | None.
40 CFR 265.276 | None | None.
40 CFR 265.278 | None | None.
40 CFR 265.279 | None | None.
40 CFR 265.280 | None | None.
40 CFR 265.281 | None | None.
40 CFR 265.282 | None | None.
40 CFR 265.300 | None | NR 665.0300.
40 CFR 265.301 | NR 660.18(2)(b), (11)(a)-(d), (12), (16) & (29) & 680.22(25) & (31) | NR 665.0301.
40 CFR 265.302 | NR 660.18(11)(f) & 680.22(25) & (31) | NR 665.0302.
40 CFR 265.303 | NR 660.18(11)(g)-(i) & 680.22(25) & (31) | NR 665.0303.
40 CFR 265.304 | NR 660.18(31)(c) & 680.22(25) & (31) | NR 665.0304.
40 CFR 265.309 | NR 660.18(14) & 680.22(25) & (31) | NR 665.0309.
40 CFR 265.310 | NR 660.20(1)(a)1., 660.21(1)(a) & 660.22(2)(a), (b) & (d)-(f) & 680.22(17), (18), (26) & (27) | NR 665.0310.
40 CFR 265.312 | NR 660.18(3) & 680.22(25) & (31) | NR 665.0312.
40 CFR 265.313 | NR 660.18(4) & 680.22(25) & (31) | NR 665.0313.
40 CFR 265.314 | NR 660.18(6)-(8) & (9)(b) & (d) & 680.22(25) & (31) | NR 665.0314.
40 CFR 265.315 | NR 660.18(9)(a) & 680.22(25) & (31) | NR 665.0315.
40 CFR 265.316 | NR 660.18(9)(c) & 680.22(25) & (31) | NR 665.0316.
40 CFR 265.340 | None | NR 665.0340.
40 CFR 265.341 | NR 665.09(16)(a)1., 3. & 4. & 680.22(29) | NR 665.0341.
40 CFR 265.345 | NR 665.09(5) & 680.22(29) | NR 665.0345.
40 CFR 265.347 | NR 665.09(11)(d) & 680.22(29) | NR 665.0347.
40 CFR 265.351 | NR 665.10(1) & 680.22(17) | NR 665.0351.
40 CFR 265.352 | NR 665.09(13)(b) & (16) & 680.22(29) | NR 665.0352.
40 CFR 265.370 | None | NR 665.0370.
40 CFR 265.373 | None | NR 665.0373.
40 CFR 265.375 | None | NR 665.0375.
40 CFR 265.377 | None | NR 665.0377.
40 CFR 265.381 | None | NR 665.0381.
40 CFR 265.382 | NR 630.20(1) & 680.22(7) | NR 665.0382.
40 CFR 265.383 | None | NR 665.0383.
40 CFR 265.400 | None | NR 665.0400.
40 CFR 265.401 | None | NR 665.0401.
40 CFR 265.402 | None | NR 665.0402.
40 CFR 265.403 | None | NR 665.0403.
40 CFR 265.404 | None | NR 665.0404.
40 CFR 265.405 | None | NR 665.0405.
40 CFR 265.406 | None | NR 665.0406.
40 CFR 265.430 | NR 600.04(1) & (2) & 680.22(2) | NR 665.0430.
40 CFR 265.440 | NR 656.02, 656.03, 656.04(3) & 656.07(1) & 680.22(33) | NR 665.0440.
40 CFR 265.441 | NR 656.07(2) & 680.22(33) | NR 665.0441.
40 CFR 265.442 | NR 656.07(3) & 680.22(33) | NR 665.0442.
40 CFR 265.443 | NR 656.07(4)(a)-(m) & (o) & 680.22(33) | NR 665.0443.
40 CFR 265.444 | NR 656.07(5) & 680.22(33) | NR 665.0444.
40 CFR 265.445 | NR 656.08(1)(a), (b) & (c)1.-3. & 680.22(33) | NR 665.0445.
40 CFR 265.1030 | NR 631.02(1) & (2) & 680.22(34) | NR 665.1030.
40 CFR 265.1031 | NR 631.03(1)-(15) & (18)-(25) & 680.22(34) | NR 665.1031.
40 CFR 265.1032 | NR 631.06(1) & 680.22(34) | NR 665.1032.
40 CFR 265.1033 | NR 631.06(2)(a)-(h) & (j)-(o) & 680.22(34) | NR 665.1033.
40 CFR 265.1034 | NR 631.03(26), 631.07 & 680.22(34) | NR 665.1034.
40 CFR 265.1035 | NR 631.08 & 680.22(34) | NR 665.1035.
40 CFR 265.1050 | NR 632.02(1), (2), (4) & (5) & 680.22(35) | NR 665.1050.
40 CFR 265.1051 | NR 632.03 & 680.22(35) | NR 665.1051.
40 CFR 265.1052 | NR 632.06(1) & 680.22(35) | NR 665.1052.
40 CFR 265.1053 | NR 632.06(2) & 680.22(35) | NR 665.1053.
40 CFR 265.1054 | NR 632.06(3) & 680.22(35) | NR 665.1054.
40 CFR 265.1055 | NR 632.06(4) & 680.22(35) | NR 665.1055.
40 CFR 265.1056 | NR 632.06(5) & 680.22(35) | NR 665.1056.
40 CFR 265.1057 | NR 632.06(6) & 680.22(35) | NR 665.1057.
40 CFR 265.1058 | NR 632.06(7) & 680.22(35) | NR 665.1058.
40 CFR 265.1059 | NR 632.06(8) & 680.22(35) | NR 665.1059.
40 CFR 265.1060 | NR 632.06(9) & 680.22(35) | NR 665.1060.
40 CFR 265.1061 | NR 632.07(1) & 680.22(35) | NR 665.1061.
40 CFR 265.1062 | NR 632.07(2) & 680.22(35) | NR 665.1062.
40 CFR 265.1063 | NR 631.03(26), 632.08 & 680.22(35) | NR 665.1063.
40 CFR 265.1064 | NR 632.09 & 680.22(35) | NR 665.1064.
40 CFR 265.1080 | NR 633.02 & 680.22(36) | NR 665.1080.
40 CFR 265.1081 | NR 631.03(14), 633.03 & 680.22(36) | NR 665.1081.
40 CFR 265.1082 | NR 633.04 & 680.22(36) | NR 665.1082.
40 CFR 265.1083 | NR 633.05 & 680.22(36) | NR 665.1083.
40 CFR 265.1084 | NR 633.06 & 680.22(36) | NR 665.1084.
40 CFR 265.1085 | NR 633.07 & 680.22(36) | NR 665.1085.
40 CFR 265.1086 | NR 633.08 & 680.22(36) | NR 665.1086.
40 CFR 265.1087 | NR 633.09 & 680.22(36) | NR 665.1087.
40 CFR 265.1088 | NR 633.10 & 680.22(36) | NR 665.1088.
40 CFR 265.1089 | NR 633.11 & 680.22(36) | NR 665.1089.
40 CFR 265.1090 | NR 633.12 & 680.22(36) | NR 665.1090.
40 CFR 265.1100 | NR 655.02 & 680.22(24) | NR 665.1100.
40 CFR 265.1101 | NR 655.07(5) & (6) & 680.22(24) | NR 665.1101.
40 CFR 265.1102 | NR 655.11(2)(a)-(c) & 680.22(17) | NR 665.1102.
40 CFR 265.1200 | None | NR 665.1200.
40 CFR 265.1201 | None | NR 665.1201.
40 CFR 265.1202 | None | NR 665.1202.
40 CFR 265 Appendix I | None | NR 665 Appendix I.
40 CFR 265 Appendix III | None | NR 665 Appendix III.
40 CFR 265 Appendix IV | None | NR 665 Appendix IV.
40 CFR 265 Appendix V | None | NR 665 Appendix V.
40 CFR 265 Appendix VI | NR 633 Appendix I | NR 665 Appendix VI.
40 CFR 266.20 | None | NR 666.020.
40 CFR 266.21 | None | NR 666.021.
40 CFR 266.22 | None | NR 666.022.
40 CFR 266.23 | NR 600.04(4) | NR 666.023.
40 CFR 266.70 | None | NR 666.070.
40 CFR 266.80 | NR 610.04(1), 615.04(3), 620.04(2) & 625.12 | NR 666.080.
40 CFR 266.100 | None | NR 666.100.
40 CFR 266.101 | None | NR 666.101.
40 CFR 266.102 | None | NR 666.102.
40 CFR 266.103 | None | NR 666.103.
40 CFR 266.104 | None | NR 666.104.
40 CFR 266.105 | None | NR 666.105.
40 CFR 266.106 | None | NR 666.106.
40 CFR 266.107 | None | NR 666.107.
40 CFR 266.108 | None | NR 666.108.
40 CFR 266.109 | None | NR 666.109.
40 CFR 266.110 | None | NR 666.110.
40 CFR 266.111 | None | NR 666.111.
40 CFR 266.112 | None | NR 666.112.
40 CFR 266.200 | None | NR 666.200.
40 CFR 266.201 | None | NR 666.201.
40 CFR 266.202 | None | NR 666.202.
40 CFR 266.203 | None | NR 666.203.
40 CFR 266.204 | None | NR 666.204.
40 CFR 266.205 | None | NR 666.205.
40 CFR 266.206 | None | NR 666.206.
40 CFR 266.210 | None | NR 666.210.
40 CFR 266.220 | None | NR 666.220.
40 CFR 266.225 | None | NR 666.225.
40 CFR 266.230 | None | NR 666.230.
40 CFR 266.235 | None | NR 666.235.
40 CFR 266.240 | None | NR 666.240.
40 CFR 266.245 | None | NR 666.245.
40 CFR 266.250 | None | NR 666.250.
40 CFR 266.255 | None | NR 666.255.
40 CFR 266.260 | None | NR 666.260.
40 CFR 266.305 | None | NR 666.305.
40 CFR 266.310 | None | NR 666.310.
40 CFR 266.315 | None | NR 666.315.
40 CFR 266.320 | None | NR 666.320.
40 CFR 266.325 | None | NR 666.325.
40 CFR 266.330 | None | NR 666.330.
40 CFR 266.335 | None | NR 666.335.
40 CFR 266.340 | None | NR 666.340.
40 CFR 266.345 | None | NR 666.345.
40 CFR 266.350 | None | NR 666.350.
40 CFR 266.355 | None | NR 666.355.
40 CFR 266.360 | None | NR 666.360.
40 CFR 266 Appendix I | None | NR 666 Appendix I.
40 CFR 266 Appendix II | None | NR 666 Appendix II.
40 CFR 266 Appendix III | None | NR 666 Appendix III.
40 CFR 266 Appendix IV | None | NR 666 Appendix IV.
40 CFR 266 Appendix V | None | NR 666 Appendix V.
40 CFR 266 Appendix VI | None | NR 666 Appendix VI.
40 CFR 266 Appendix VII | None | NR 666 Appendix VII.
40 CFR 266 Appendix VIII | None | NR 666 Appendix VIII.
40 CFR 266 Appendix IX | None | NR 666 Appendix IX.
40 CFR 266 Appendix XI | None | NR 666 Appendix XI.
40 CFR 266 Appendix XII | None | NR 666 Appendix XII.
40 CFR 266 Appendix XIII | NR 605 Appendix V | NR 666 Appendix XIII.
40 CFR 268.1 | NR 675.01, 675.02, 675.03(1m), 675.04(3) & (4) & 675.05(3) | NR 668.01.
40 CFR 268.2 | NR 600.03(177) & 675.03 | NR 668.02.
40 CFR 268.3 | NR 675.06 | NR 668.03.
40 CFR 268.4 | NR 675.04(1) & (5) | NR 668.04.
40 CFR 268.5 | NR 675.05(1) | NR 668.05.
40 CFR 268.6 | NR 675.05(2) | NR 668.06.
40 CFR 268.7 | NR 675.07 | NR 668.07.
40 CFR 268.9 | NR 675.09 | NR 668.09.
40 CFR 268.14 | None | NR 668.14.
40 CFR 268.30 | None | NR 668.30.
40 CFR 268.31 | NR 675.12 | NR 668.31.
40 CFR 268.32 | None | NR 668.32.
40 CFR 268.33 | None | NR 668.33.
40 CFR 268.34 | None | NR 668.34.
40 CFR 268.35 | None | NR 668.35.
40 CFR 268.36 | None | NR 668.36.
40 CFR 268.37 | NR 675.18 | NR 668.37.
40 CFR 268.38 | NR 675.19(1) | NR 668.38.
40 CFR 268.39 | NR 675.19(2) | NR 668.39.
40 CFR 268.40 | NR 675.20 | NR 668.40.
40 CFR 268.41 | NR 675.21 | NR 668.41.
40 CFR 268.42 | NR 675.22 | NR 668.42.
40 CFR 268.43 | NR 675.23 | NR 668.43.
40 CFR 268.44 | NR 675.24 | NR 668.44.
40 CFR 268.45 | NR 675.25 | NR 668.45.
40 CFR 268.46 | NR 675.26 | NR 668.46.
40 CFR 268.48 | NR 675.28 | NR 668.48.
40 CFR 268.49 | None | NR 668.49.
40 CFR 268.50 | NR 675.30 | NR 668.50.
40 CFR 268 Appendix III | NR 675 Appendix II | NR 668 Appendix III.
40 CFR 268 Appendix IV | NR 675 Appendix III | NR 668 Appendix IV.
40 CFR 268 Appendix VI | NR 675 Appendix V | NR 668 Appendix VI.
40 CFR 268 Appendix VII | NR 675 Appendix VI | NR 668 Appendix VII.
40 CFR 268 Appendix VIII | NR 675 Appendix VII | NR 668 Appendix VIII.
40 CFR 268 Appendix IX | None | NR 668 Appendix IX.
40 CFR 268 Appendix XI | NR 675 Appendix IX | NR 668 Appendix XI.
40 CFR 270.1 | NR 610.07(5), 610.08(5)(a) & (d), 615.05(6)(a) & (c), 620.14(intro.), 640.05, 640.06(1)(intro.), 645.05(1), 645.06(1)(intro.), 655.05(1), 655.06(intro.), 656.05, 656.06(intro.), 660.09(intro.), 660.12, 660.24(7) & (8)(intro.), 665.06(1)(intro.), 670.06(intro.), 680.01, 680.02, 680.24(2) & (4), 680.30, 680.31(1) & 680.43(6) | NR 670.001.
40 CFR 270.2 | NR 600.03(14), (32), (49), (54), (61), (62), (68), (69), (71), (76), (78), (81), (94), (95), (98), (103), (111), (120), (146), (164), (166), (167), (170), (182), (195), (200), (215), (233), (238), (240), (244), (261), (263) & (266) & 680.03(3m) | NR 660.10 & 670.002.
40 CFR 270.4 | NR 680.40 | NR 670.004.
40 CFR 270.5 | None | NR 670.005.
40 CFR 270.6 | NR 600.10 | NR 660.11.
40 CFR 270.10 | NR 680.06(3)(a), (4) & (5), 680.10, 680.21(3), 680.31(1) & (2) & 680.45(6)(intro.) & (b) | NR 670.010.
40 CFR 270.11 | NR 680.05(2) & 680.41 | NR 670.011.
40 CFR 270.12 | NR 600.06 | NR 670.012.
40 CFR 270.13 | None | NR 670.013.
40 CFR 270.14 | NR 632.11(1)(b)3., 640.06(1)(e), (2)(e)2. & (f) & (3)(d)4., 640.07(3)(a)10., 12. & 13., 645.06(1)(e), (2)(e)2. & (f) & (3)(e), 645.16(3)(a)11., 13. & 14., 660.09(9)-(12), 660.13(3)(a) & (b) & (4), 680.05(1)(c)1., 680.06(3)(a)-(L) & (n), (4) & (5)(a), 685.07(2)(b) & 685.08(5)(a) & (b) | NR 670.014.
40 CFR 270.15 | NR 640.06(2)(a)-(c) & (h) & 640.07(3)(a)7., 8. & 11 | NR 670.015.
40 CFR 270.16 | NR 645.06(1)(i) & 645.16(3)(a)8.c.-e., 9. & 12 | NR 670.016.
40 CFR 270.17 | NR 660.09(5), (7), (8) & (14), 660.13(1), (2) & (7) & 660.24(8) & (9) | NR 670.017.
40 CFR 270.18 | NR 655.06 | NR 670.018.
40 CFR 270.19 | NR 665.06(1)(d)-(f) | NR 670.019.
40 CFR 270.20 | NR 600.04(3) & 680.22(2) | NR 664.0270 & 665.0270.
40 CFR 270.21 | NR 660.09(5), (7), (8) & (14) & 660.13(1), (2) & (7) | NR 670.021.
40 CFR 270.22 | None | NR 670.022.
40 CFR 270.23 | NR 670.06 & 670.07 | NR 670.023.
40 CFR 270.24 | NR 632.11(2) | NR 670.024.
40 CFR 270.25 | NR 632.11(3) | NR 670.025.
40 CFR 270.26 | NR 656.06 | NR 670.026.
40 CFR 270.27 | NR 632.11(4) | NR 670.027.
40 CFR 270.28 | None | NR 670.028.
40 CFR 270.29 | None | NR 670.029.
40 CFR 270.30 | NR 680.42(1)-(8), (10), (11)(a) & (c)-(f), (12)-(15) & (17)-(18m) | NR 670.030.
40 CFR 270.31 | NR 680.42(11)(b) | NR 670.031.
40 CFR 270.32 | NR 680.42(19) | NR 670.032.
40 CFR 270.33 | None | NR 670.033.
40 CFR 270.40 | NR 680.44 | NR 670.040.
40 CFR 270.41 | NR 680.07(2)(b), (d), (e) & (g) & (3)(a) | NR 670.041.
40 CFR 270.42 | NR 680.07(1), (2)(intro.), (3)(intro.), (5), (6)(d) & (e) & (7) & 680 Appendix I | NR 670.042 & 670 Appendix I.
40 CFR 270.43 | NR 680.43(1) & (2) | NR 670.043.
40 CFR 270.50 | NR 680.45(6) & (8) | NR 670.050.
40 CFR 270.51 | NR 680.45(7) | NR 670.051.
40 CFR 270.60 | None | NR 670.001(3)(b)9.
40 CFR 270.61 | NR 600.09 | NR 670.061.
40 CFR 270.62 | NR 665.06(1)(d) & (2)-(4) & 665.07(1)-(3) | NR 670.062.
40 CFR 270.63 | NR 600.04(3) & 680.22(2) | NR 664.0270 & 665.0270.
40 CFR 270.64 | NR 600.04(1) & (2) & 680.22(2) | NR 665.0430.
40 CFR 270.65 | NR 680.51 | NR 670.065.
40 CFR 270.66 | None | NR 670.066.
40 CFR 270.68 | None | NR 670.068.
40 CFR 270.70 | NR 680.20(1) & (3), 680.21(1)(a), 680.22(3) & 680.24(1) & (2) | NR 670.070.
40 CFR 270.71 | NR 680.23 | NR 670.071.
40 CFR 270.72 | NR 680.03(4) & 680.07(3)(e) & (4) | NR 670.072.
40 CFR 270.73 | NR 680.43(3) & (4) | NR 670.073.
40 CFR 270.79 | None | None.
40 CFR 270.80 | NR 680.50(intro.) | NR 670.079(1).
40 CFR 270.85 | None | None.
40 CFR 270.90 | None | None.
40 CFR 270.95 | None | None.
40 CFR 270.100 | None | None.
40 CFR 270.105 | None | None.
40 CFR 270.110 | NR 680.50(2) | NR 670.079(3).
40 CFR 270.115 | None | None.
40 CFR 270.120 | NR 680.50(2)(intro.) | NR 670.079(1).
40 CFR 270.125 | None | None.
40 CFR 270.130 | NR 680.50(3) | NR 670.079(4).
40 CFR 270.135 | NR 680.50(1)(e) | NR 670.079(2)(e).
40 CFR 270.140 | None | None.
40 CFR 270.145 | None | NR 670.079(3).
40 CFR 270.150 | NR 680.50(4) | NR 670.079(4).
40 CFR 270.155 | None | None.
40 CFR 270.160 | None | None.
40 CFR 270.165 | None | None.
40 CFR 270.170 | NR 680.50(1)(c) | NR 670.079(2)(c).
40 CFR 270.175 | None | None.
40 CFR 270.180 | NR 680.50(1)(d) | NR 670.079(2)(d).
40 CFR 270.185 | None | None.
40 CFR 270.190 | None | None.
40 CFR 270.195 | NR 680.50(1)(b) | NR 670.079(2)(b).
40 CFR 270.200 | NR 680.50(1)(c) | NR 670.079(2)(c).
40 CFR 270.205 | None | None.
40 CFR 270.210 | None | None.
40 CFR 270.215 | None | None.
40 CFR 270.220 | None | None.
40 CFR 270.225 | None | None.
40 CFR 270.230 | None | None.
40 CFR 270.235 | None | NR 670.235.
40 CFR 124.1 | None | NR 670.401.
40 CFR 124.3 | NR 640.06(4)(a), 640.07(3)(b), 645.06(4)(a), 645.16(3)(b), 660.10, 660.14, 660.15, 665.06(5) & 680.06(9)(a) | NR 670.403.
40 CFR 124.4 | None | NR 670.404.
40 CFR 124.5 | NR 680.07(6)(a) & (f) | NR 670.405.
40 CFR 124.6 | None | NR 670.406.
40 CFR 124.8 | NR 680.06(10)(b), (11)(b) & (12)(b) & 680.07(6)(c) | NR 670.408.
40 CFR 124.9 | NR 680.06(10)(e), (11)(i) & (12)(e) & 680.07(6)(f) | NR 670.409.
40 CFR 124.10 | NR 680.06(10)(a), (11)(a) & (12)(a) & 680.07(6)(b) | NR 670.410.
40 CFR 124.11 | NR 680.06(10)(c)3., (11)(c) & (12)(c)3. & 680.07(6)(d)3 | NR 670.411.
40 CFR 124.12 | NR 680.06(10)(c), (11)(f) & (12)(c) & 680.07(6)(d) | NR 670.412.
40 CFR 124.15 | NR 640.06(4)(b), 645.06(4)(b), 660.11 & 665.06(6) | NR 670.415.
40 CFR 124.17 | NR 680.06(10)(d), (11)(h) & (12)(d) & 680.07(6)(e) | NR 670.417.
40 CFR 124.31 | NR 680.06(1m) | NR 670.431.
40 CFR 124.32 | NR 680.06(8m) | NR 670.432.
40 CFR 124.33 | NR 680.06(15) | NR 670.433.
40 CFR 273.1 | NR 690.04 | NR 673.01.
40 CFR 273.2 | NR 690.05 | NR 673.02.
40 CFR 273.3 | NR 690.06 | NR 673.03.
40 CFR 273.4 | NR 690.07 | NR 673.04.
40 CFR 273.5 | None | NR 673.05.
40 CFR 273.8 | NR 690.08 | NR 673.08.
40 CFR 273.9 | NR 690.03 | NR 673.09.
40 CFR 273.10 | NR 690.10 | NR 673.10.
40 CFR 273.11 | NR 690.11 | NR 673.11.
40 CFR 273.12 | NR 690.12(2) | NR 673.12.
40 CFR 273.13 | NR 690.13 | NR 673.13.
40 CFR 273.14 | NR 690.14 | NR 673.14.
40 CFR 273.15 | NR 690.15 | NR 673.15.
40 CFR 273.16 | NR 690.16 | NR 673.16.
40 CFR 273.17 | NR 690.17 | NR 673.17.
40 CFR 273.18 | NR 690.18 | NR 673.18.
40 CFR 273.19 | NR 690.19 | NR 673.19.
40 CFR 273.20 | NR 690.20 | NR 673.20.
40 CFR 273.30 | NR 690.30 | NR 673.30.
40 CFR 273.31 | NR 690.31 | NR 673.31.
40 CFR 273.32 | NR 690.12(1) & 690.32 | NR 673.32.
40 CFR 273.33 | NR 690.33 | NR 673.33.
40 CFR 273.34 | NR 690.34 | NR 673.34.
40 CFR 273.35 | NR 690.35 | NR 673.35.
40 CFR 273.36 | NR 690.36 | NR 673.36.
40 CFR 273.37 | NR 690.37 | NR 673.37.
40 CFR 273.38 | NR 690.38 | NR 673.38.
40 CFR 273.39 | NR 690.39 | NR 673.39.
40 CFR 273.40 | NR 690.40 | NR 673.40.
40 CFR 273.50 | NR 690.50 | NR 673.50.
40 CFR 273.51 | NR 690.51 | NR 673.51.
40 CFR 273.52 | NR 690.52 | NR 673.52.
40 CFR 273.53 | NR 690.53 | NR 673.53.
40 CFR 273.54 | NR 690.54 | NR 673.54.
40 CFR 273.55 | NR 690.55 | NR 673.55.
40 CFR 273.56 | NR 690.56 | NR 673.56.
40 CFR 273.60 | NR 690.60 | NR 673.60.
40 CFR 273.61 | NR 690.61 | NR 673.61.
40 CFR 273.62 | NR 690.62 | NR 673.62.
40 CFR 273.70 | NR 690.70 | NR 673.70.
40 CFR 273.80 | NR 690.80 | NR 673.80.
40 CFR 273.81 | NR 690.81 | NR 673.81.
40 CFR 279.1 | NR 590.03 | NR 679.01.
40 CFR 279.10 | NR 590.02(1), (4) & (5), 590.04(1)(a)-(d) & (2)(b)-(e), 590.05(2)(c), 590.10(2)-(4) & 590.11(1) | NR 679.10.
40 CFR 279.11 | NR 590.09(1) | NR 679.11.
40 CFR 279.12 | NR 590.05(1), (4) & (7) | NR 679.12.
40 CFR 279.20 | NR 590.02(7), 590.04(1)(a) & (d)-(f) & 590.12 | NR 679.20.
40 CFR 279.21 | NR 590.04(2)(f) | NR 679.21.
40 CFR 279.22 | NR 590.13 | NR 679.22.
40 CFR 279.23 | NR 590.14(1) | NR 679.23.
40 CFR 279.24 | NR 590.15 | NR 679.24.
40 CFR 279.30 | NR 590.20(1) | NR 679.30.
40 CFR 279.31 | NR 590.20(1) | NR 679.31.
40 CFR 279.32 | NR 590.20(1) | NR 679.32.
40 CFR 279.40 | NR 590.30-590.33 | NR 679.40.
40 CFR 279.41 | NR 590.34 & 590.50(4) | NR 679.41.
40 CFR 279.42 | NR 590.07 | NR 679.42.
40 CFR 279.43 | NR 590.35 | NR 679.43.
40 CFR 279.44 | NR 590.11 | NR 679.44.
40 CFR 279.45 | NR 590.36 | NR 679.45.
40 CFR 279.46 | NR 590.37 | NR 679.46.
40 CFR 279.47 | NR 590.38 | NR 679.47.
40 CFR 279.50 | NR 590.50(1) & (2) & 590.51 | NR 679.50.
40 CFR 279.51 | NR 590.07 | NR 679.51.
40 CFR 279.52 | NR 590.52 | NR 679.52.
40 CFR 279.53 | NR 590.11(1)-(3) | NR 679.53.
40 CFR 279.54 | NR 590.53 | NR 679.54.
40 CFR 279.55 | NR 590.54 | NR 679.55.
40 CFR 279.56 | NR 590.55 | NR 679.56.
40 CFR 279.57 | NR 590.56 | NR 679.57.
40 CFR 279.58 | NR 590.57 | NR 679.58.
40 CFR 279.59 | NR 590.58 | NR 679.59.
40 CFR 279.60 | NR 590.70 & 590.71 | NR 679.60.
40 CFR 279.61 | NR 590.72 | NR 679.61.
40 CFR 279.62 | NR 590.07 | NR 679.62.
40 CFR 279.63 | NR 590.11 | NR 679.63.
40 CFR 279.64 | NR 590.73 | NR 679.64.
40 CFR 279.65 | NR 590.74 | NR 679.65.
40 CFR 279.66 | NR 590.75 | NR 679.66.
40 CFR 279.67 | NR 590.76 | NR 679.67.
40 CFR 279.70 | NR 590.80, 590.82 & 590.83 | NR 679.70.
40 CFR 279.71 | NR 590.81 | NR 679.71.
40 CFR 279.72 | NR 590.84 | NR 679.72.
40 CFR 279.73 | NR 590.07 | NR 679.73.
40 CFR 279.74 | NR 590.85 | NR 679.74.
40 CFR 279.75 | NR 590.86 | NR 679.75.
40 CFR 279.80 | None | NR 679.80.
40 CFR 279.81 | NR 590.04(2)(c) & 590.05(2)(a) & (b) | NR 679.81.
40 CFR 279.82 | NR 590.05(4) | NR 679.82.

G. Where Are the Revised State Rules Different From the Federal Rules?

These practices are prohibited in Wisconsin: Underground Injection (40 CFR Part 144), and Land Treatment (40 CFR 270.20) of hazardous waste. Wisconsin also does not provide for Permit by Rule (40 CFR 270.60). Wisconsin does not allow automatic authorization under the permit modification regulations found in 40 CFR 270.42 (b)(6). The 10 year Remedial Action Plan, or RAP (40 CFR 270.79-270.230) is replaced by a 5 year Remediation Variance (NR 670.079) (See 66 FR 28397, (2001) for a discussion on Wisconsin Variance authority.).

These Wisconsin regulations are more stringent: 662.220(5)(c,d), 662.220(6)(c,d,f), and 670.030(10)(i) (annual report required instead of a biennial report).

Wisconsin maintains different financial regulations, that allow for additional equivalent financial mechanisms (664.0143), do not allow the net worth test for closure under Part 665, and maintain some more stringent insurance requirements under 664.0143(5)(h), 664.0147(1)(a)(3), and 665.0147(1)(a)(3).

The following Wisconsin regulations have no Federal counterpart: 666.900 through 666.910. There are no Wisconsin provisions for 40 CFR 268.5, 268.44 (other than 268.44(h)), and 270.3 as these are Federal non-delegable provisions.

H. Who Handles Permits After the Authorization Takes Effect?

Wisconsin will issue permits for all the provisions for which it is authorized and will administer the permits it issues. EPA will continue to administer any RCRA hazardous waste permits or portions of permits which we issued prior to the effective date of this authorization until they expire or are terminated. We will not issue any more new permits or new portions of permits for the provisions listed in the table above after the effective date of this authorization. EPA will continue to implement and issue permits for HSWA requirements for which Wisconsin is not yet authorized.

I. How Does This Action Affect Indian Country (18 U.S.C. 1151) in Wisconsin?

Wisconsin is not authorized to carry out its hazardous waste program in “Indian Country,” as defined in 18 U.S.C. 1151. Indian Country includes:

1. All lands within the exterior boundaries of Indian reservations within the State of Wisconsin;

2. Any land held in trust by the U.S. for an Indian tribe; and

3. Any other land, whether on or off an Indian reservation that qualifies as Indian Country.

Therefore, this action has no effect on Indian Country. EPA will continue to implement and administer the RCRA program in Indian Country.

J. What Is Codification and Is EPA Codifying Wisconsin's Hazardous Waste Program as Authorized in This Rule?

Codification is the process of placing the State's statutes and regulations that comprise the State's authorized hazardous waste program into the Code of Federal Regulations. We do this by referencing the authorized State rules in 40 CFR part 272. Wisconsin's rules, up to and including those revised June 7, 1991, as corrected August 19, 1991, have previously been codified through the incorporation-by-reference effective February 4, 1992 (57 FR 4162). We reserve the amendment of 40 CFR part 272, subpart KK for the codification of Wisconsin's program changes until a later date.

K. Statutory and Executive Order Reviews

This final rule only authorizes hazardous waste requirements pursuant to RCRA 3006 and imposes no requirements other than those imposed by State law (see Supplementary Information, Section A. Why are Revisions to State Programs Necessary?). Therefore, this rule complies with applicable executive orders and statutory provisions as follows:

1. Executive Order 18266: Regulatory Planning Review

The Office of Management and Budget has exempted this rule from its review under Executive Order 12866 (58 FR 51735, October 4, 1993), and therefore this action is not subject to review by OMB.

2. Paperwork Reduction Act

This rule does not impose an information collection burden under the provisions of the Paperwork Reduction Act of 1995 (44 U.S.C. 3501 et seq.).

3. Regulatory Flexibility Act

This action authorizes State requirements for the purpose of RCRA 3006 and imposes no additional requirements beyond those imposed by State law. Accordingly, I certify that this rule will not have a significant economic impact on a substantial number of small entities under the Regulatory Flexibility Act (5 U.S.C. 601 et seq.).

4. Unfunded Mandates Reform Act

Because this rule approves pre-existing requirements under State law and does not impose any additional enforceable duty beyond that required by State law, it does not contain any unfunded mandate or significantly or uniquely affect small governments, as described in the Unfunded Mandates Reform Act of 1995 (Pub. L. 104-4).

5. Executive Order 13132: Federalism

Executive Order 13132 (64 FR 43255, August 10, 1999) does not apply to this rule because it will not have federalism implications (i.e., substantial direct effects on the States, on the relationship between the national government and the States, or on the distribution of power and responsibilities among the various levels of government).

6. Executive Order 13175: Consultation and Coordination With Indian Tribal Governments

Executive Order 13175 (65 FR 67249, November 9, 2000) does not apply to this rule because it will not have tribal implications (i.e., substantial direct effects on one or more Indian tribes, or on the relationship between the Federal Government and Indian tribes, or on the distribution of power and responsibilities between the Federal Government and Indian tribes.)

7. Executive Order 13045: Protection of Children From Environmental Health and Safety Risks

This rule is not subject to Executive Order 13045 (62 FR 19885, April 23, 1997), because it is not economically significant as defined in Executive Order 12866 and because EPA does not have reason to believe the environmental health or safety risks addressed by this action present a disproportionate risk to children.

8. Executive Order 13211: Actions That Significantly Affect Energy Supply, Distribution, or Use

This rule is not subject to Executive Order 13211 (66 FR 28355, May 22, 2001), because it is not a significant regulatory action as defined in Executive Order 12866.

9. National Technology Transfer Advancement Act

EPA approves State programs as long as they meet criteria required by RCRA, so it would be inconsistent with applicable law for EPA, in its review of a State program, to require the use of any particular voluntary consensus standard in place of another standard that meets requirements of RCRA. Thus, the requirements of section 12(d) of the National Technology Transfer and Advancement Act of 1995 (15 U.S.C. 272 note) do not apply to this rule.

10. Executive Order 12988

As required by section 3 of Executive Order 12988 (61 FR 4729, February 7, 1996), in issuing this rule, EPA has taken the necessary steps to eliminate drafting errors and ambiguity, minimize potential litigation, and provide a clear legal standard for affected conduct.

11. Executive Order 12630: Evaluation of Risk and Avoidance of Unanticipated Takings

EPA has complied with Executive Order 12630 (53 FR 8859, March 18, 1988) by examining the takings implications of the rule in accordance with the Attorney General's Supplemental Guidelines for the Evaluation of Risk and Avoidance of Unanticipated Takings issued under the executive order.

12. Executive Order 12898: Federal Actions To Address Environmental Justice in Minority Populations and Low Income Populations

Because this rule proposes authorization of pre-existing State rules and imposes no additional requirements beyond those imposed by State law and there are no anticipated significant adverse human health or environmental effects, the rule is not subject to Executive Order 12898 (59 FR 7629, February 16, 1994).

13. Congressional Review Act

EPA will submit a report containing this rule and other information required by the Congressional Review Act (5 U.S.C. 801 et seq.) to the U.S. Senate, the U.S. House of Representatives, and the Comptroller General of the United States prior to the publication in the Federal Register. A major rule cannot take effect until 60 days after it is published in the Federal Register. This action is not a “major rule” as defined by 5 U.S.C. 804(2).

List of Subjects in 40 CFR Part 271

Environmental protection, Administrative practice and procedure, Confidential business information, Hazardous materials transportation, Hazardous waste, Indians-lands, Intergovernmental relations, Penalties, Reporting and recordkeeping requirements.

Authority: This action is issued under the authority of sections 2002(a), 3006 and 7004(b) of the Solid Waste Disposal Act as amended 42 U.S.C. 6912(a), 6926, 6974(b).

Dated: March 20, 2009.
Walter W. Kovalick, Jr.,
Acting Regional Administrator, Region 5.

[FR Doc. E9-8616 Filed 4-14-09; 8:45 am]

BILLING CODE 6560-50-P